DEPARTMENT OF ENERGY

Federal Energy Regulatory Commission

[Project No. 10674-017]

Notice of Application Tendered for Filing With the Commission and Soliciting Additional Study Requests and Establishing Procedural Schedule for Relicensing and a Deadline for Submission of Final Amendments: Kaukauna Utilities

Take notice that the following hydroelectric application has been filed with the Commission and is available for public inspection.

a. Type of Application: New Major license.

b. Project No.: 10674-017.

c. Date filed: February 14, 2019.

d. Applicant: Kaukauna Utilities.

e. Name of Project: Kimberly Hydroelectric Project.

f. Location: The Kimberly Project is located at the U.S. Army Corps of Engineers' (Corps) Cedars Dam on the Lower Fox River in the Village of Kimberly in Outagamie County, Wisconsin. The project does not occupy federal lands.

g. Filed Pursuant to: Federal Power Act 16 U.S.C. 791 (a)-825(r).

h. Applicant Contact: Mike Pedersen, Manager of Generation and Operations, Kaukauna Utilities, 777 Island Street, P.O. Box 1777, Kaukauna, WI 54130-7077, (902) 766-05721.

i. FERC Contact: Colleen Corballis, (202) 502-8598, colleen.corballis@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 15, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10674-017.

m. The application is not ready for environmental analysis at this time.

n. The project consists of: (1) A 161-foot-long, 43-foot-wide, 61-foot-high reinforced concrete and brick masonry powerhouse located at the south abutment of Cedars Dam and containing three turbine-generator units each rated at 723 kilowatts for a total installed capacity of 2.170 megawatts; (2) a 2.4 kilovolts (kV) to 34.5 kV step-up transformer; and (3) appurtenant facilities. The project is directly connected to a 34.5 kV local distribution line which is not part of the project. The average annual generation was 12,324,827 kilowatt-hours for the period 2011 to 2017.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary)—April 2019

Request Additional Information (if necessary)—April 2019

Issue Scoping Document 1 for comments—August 2019

Request Additional Information (if necessary)—October 2019

Issue Scoping Document 2 (if necessary)—November 2019

Issue Notice of Ready for Environmental Analysis—November 2019

Commission issues EA—May 2020

Final amendments to the application must be filed with the Commission no later than 30 days from the issuance date of the notice of ready for environmental analysis.

Dated: February 22, 2019.
Kimberly D. Bose,
Secretary.

[FR Doc. 2019-03767 Filed 3-1-19; 8:45 am]

BILLING CODE 6717-01-P